DEPARTMENT OF HEALTH AND HUMAN SERVICES

Office of the National Coordinator for Health Information Technology; American Health Information Community Consumer Empowerment Workgroup Meeting

ACTION: Announcement of meeting

SUMMARY: This notice announces the seventh meeting of the American Health Information Community (“Community”) Consumer Empowerment Workgroup in accordance with the Federal Advisory Committee Act (Pub. L. 92-463, 5 U.S.C., App.).

DATES: July 27, 2006 from 9 a.m. to 5 p.m.

Place: Hubert H. Humphrey building (200 Independence Avenue, SW., Washington, DC 20201), Conference Room 800 (you will need a photo ID to enter a Federal building).

Status: Open.

Purpose: at this meeting, the Community Consumer Empowerment Workgroup will receive information on personal health records and related matters.

The meeting will be conducted in hearing format, in which the Workgroup will gather information about personal health records' (PHRs) functions, features, current usage, interoperability capabilities, and importance to health care. The Workgroup will invite representatives who can provide information about these matters. The format for the meeting will include multiple invited panels and time for questions and discussion. The meeting will include a time period during which members of the public may deliver brief (3 minutes or less) oral public comment. To be included on the public comment portion of the agenda, please contact Vernette Roberts at (202) 205-8550, by e-mail at Venette.Roberts@hhs.gov or postal address at the Office of the National Coordinator (ONC), 330 C Street, SW., Suite 4090, Washington, DC 20201.

SUPPLEMENTARY INFORMATION: Public input, in the form of written testimony, is sought on the following issues:

• What is needed to increase consumer awareness and engagement in Personal Health Records (PHRs)?

• What are the most valuable features and functions of a PHR from the patient perspective? Please summarize the real world experience or evidence to support this part of the testimony.

• Would a minimum set of PHR elements ensure that consumers have the features and options most important to them when choosing a PHR?

• Who should identify the most important elements of a PHR?

• If applicable to your testimony, please comment on how health and HIT literacy needs should be addressed through PHRs.

• How can interoperability be achieved between PHRs and electronic health records (EHRs)? Please also comment on when this could be accomplished.

• How can interoperability be achieved between PHRs and all of the providers from whom the patient receives health care services? Please also comment on when this could be accomplished.

• Should the market be left alone for innovation or could vendors compete around a minimum criteria set for PHRs?

• If you think certification is necessary for privacy and security, interoperability or a minimum set of functionality, is the timing important and is there a sense of urgency given the diversity, complexity and mobility of today's population and the demand for availability of PHRs at the point of care?

Persons wishing to submit written testimony only (which should not exceed five double-spaced typewritten pages) should endeavor to submit it by July 27, 2006. Unfilled slots for oral testimony will be filled on the day of the meeting as time permits. Please consult Ms. Roberts for further information about these arrangements.

Further information about the Community's Consumer Empowerment Workgroup may be found at: http://www.hhs.gov/healthit/ahic/ce_main.html.

If you have special needs for the meeting, please contact (202) 690-7151.

The meeting will be available via Web cast at http://www.eventcenterlive.com/cfmx/ec/login/login1.cfm?BID=67.

Dated: July 11, 2006.
Judith Sparrow,
Director, American Health Information Community, Office of Programs and Coordination, Office of the National Coordinator for Health Information Technology.

[FR Doc. 06-6257 Filed 7-14-06; 8:45 am]

BILLING CODE 4150-24-M